DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 20, 2018.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on July 10, 2018.
Donald P. Burger,
Chief, General Approvals and Permits Branch.

Application No. | Applicant | Regulation(s) affected | Nature of the special permits thereof
SPECIAL PERMITS DATA
20680-N | ROTAREX, INC. NORTH AMERICA | 173.309(a) | To authorize the transportation in commerce of non-DOT specification cylinders for use as fire extinguishers. (mode 1).
20681-N | PROSERV UK LTD | 173.302(a), 173.304(a), 173.201(c) | To authorize the manufacture, mark, sale, and use of non-DOT specification cylinders for the transportation in commerce of the materials authorized by this special permit. (modes 1, 2, 3, 4).
20683-N | SPACE EXPLORATION TECHNOLOGIES CORP | 172.504(a) | To authorize the transportation in commerce of explosives incorporated into an article without placarding. (mode 1).
20684-N | LINDE GAS NORTH AMERICA LLC | 179.7, 179.300-15, 180.519(a) | To authorize the manufacture, mark, sale, and use of tank cars that use solid plugs in lieu of pressure relief devices and which are periodically retested in an alternative manner. (modes 1, 2, 3).
20685-N | TOYOTA MOTORSPORT GMBH | 172.101(j) | To authorize the transportation in commerce of lithium batteries exceeding 35 kg by cargo-only aircraft. (mode 4).
20686-N | PETROLEUM HELICOPTER, INC | 172.101(j), 175.75(b), 175.700(a) | To authorize the transportation of Class 7 material aboard passenger-carrying aircraft. (mode 5).
20690-N | KIK Custom Products Inc | 173.306(a)(3)(v) | To authorize the manufacture, mark, sale and use of pressurized, non-refillable aerosol product in metal non-DOT specification, DOT 2P, DOT 2Q and DOT 2Q1 containers that have been tested by an alternative method. (modes 1, 2, 3, 4, 5).
20690-N | KIK Custom Products Inc | 173.306(a)(3)(v) | To authorize the manufacture, mark, sale and use of pressurized, non-refillable aerosol product in metal non-DOT specification, DOT 2P, DOT 2Q and DOT 2Q1 containers that have been tested by an alternative method. (modes 1, 2, 3, 4, 5).
20691-N | CARLETON TECHNOLOGIES, INC | 172.320, 173.54(a), 173.56(b), 173.57, 173.58, 173.60 | To authorize the transportation in commerce of up to 14 articles, each with not more than 0.51 grams net explosive weight, as classed as Division 1.4E, when packed in a special shipping container. (modes 1, 2, 3, 4).
20692-N | Tyvak Nano-Satellite Systems | 173.185(a) | To authorize the transportation in commerce of spacecraft containing low production lithium batteries. (mode 4).

[FR Doc. 2018-15475 Filed 7-19-18; 8:45 am]

BILLING CODE 4909-60-P